FEDERAL MARITIME COMMISSION

[Docket No. 13-01]

Order of Investigation and Hearing: United Logistics (Lax) Inc.—Possible Violations of the Shipping Act of 1984

AGENCY: Federal Maritime Commission.

DATES: The Order of Investigation and Hearing was served January 25, 2013.

ACTION: Notice of Order of Investigation and Hearing.

Authority: 46 U.S.C. 41302.

SUPPLEMENTARY INFORMATION: On January 25, 2013 the Federal Maritime Commission instituted an Order of Investigation and Hearing entitled United Logistics (LAX) Inc.—Possible Violations of Sections 10(a)(1) and 10(b)(2)(A) of the Shipping Act of 1984. Acting pursuant to Section 11 of the Shipping Act, 46 U.S.C. 41302, that investigation is instituted to determine:

(1) Whether United Logistics (LAX) Inc. violated section 10(a)(1) of the Shipping Act, 46 U.S.C. 41102(a) by knowingly and willfully, directly or indirectly, obtaining transportation at less than the rates and charges otherwise applicable by the device or means of unlawfully accessing service contracts to which it was neither a signatory nor an affiliate;

(2) whether United Logistics (LAX) Inc. violated section 10(b)(2)(A) of the Shipping Act, 46 U.S.C. 41104(2)(A), by providing transportation in the liner trade that was not in accordance with the rates, charges, classifications, rules, and practices contained in its published tariff;

(3) whether, in the event violations of section 10 of the Shipping Act are found, civil penalties should be assessed against United Logistics (LAX) Inc. and, if so, the amount of the penalties to be assessed;

(4) whether, in the event violations of section 10(b)(2)(A) of the Shipping Act are found, the tariff of United Logistics (LAX) Inc. should be suspended pursuant to section 13 of the Shipping Act, 46 U.S.C. 41108(a);

(5) whether the Ocean Transportation Intermediary license of United Logistics (LAX) Inc. should be suspended or revoked pursuant to section 19 of the Shipping Act, 46 U.S.C. 40903; and

(6) whether, in the event violations are found, an appropriate cease and desist order should be issued as authorized by section 14 of the Shipping Act, 46 U.S.C. 41304.

The Order may be viewed in its entirety at http://www.fmc.gov/13-01.

Karen V. Gregory,
Secretary.

[FR Doc. 2013-02819 Filed 2-6-13; 8:45 am]

BILLING CODE 6730-01-P